DEPARTMENT OF THE INTERIOR

Fish and Wildlife Service

Endangered and Threatened Species Permit Application

AGENCY: Fish and Wildlife Service, Interior.

ACTION: Notice of receipt of permit application and availability of Habitat Conservation Plan and Environmental Assessment.

SUMMARY: This notice advises the public that Magic Carpet Woods Association (Applicant) has applied to the Fish and Wildlife Service (Service) for an incidental take permit pursuant to section 10(a)(1)(B) of the Endangered Species Act of 1973, as amended (Act). This notice is provided pursuant to section 10(c) of the Endangered Species Act of 1973, as amended (16 U.S.C. 1531, et seq.). The application has been assigned permit number TE 025433. The applicant requests a permit to authorize the incidental take associated with harassment (i.e., harm) of the piping plover (Charadrius melodus) which is federally listed as endangered. The permit is requested for a period of 25 years. The take would occur as a result of residential construction adjacent to Lake Michigan in Leelanau Township, Leelanau County, Michigan.

The Service also announces the availability of a Habitat Conservation Plan (HCP), draft Implementing Agreement, and Draft Environmental Assessment (EA) for the incidental take application. Copies of the application package may be obtained by making a request to the Regional Office address below. Requests must be submitted in writing to be processed. This notice is provided pursuant to Section 10(c) of the Act and National Environmental Policy Act Regulations (40 CFR 1506.6).

DATES: Written comments on the permit application and HCP should be received on or before May 22, 2000.

ADDRESSES: Individuals wishing copies of the permit application, HCP, Implementing Agreement, or Draft EA, may contact the Service's Regional Office, Fort Snelling, Minnesota. The documents will also be available for public inspection, by appointment, during normal business hours at the Regional Office or the East Lansing Field Office. Written data or comments concerning the application, EA, or HCP should be submitted to the Regional Office. Please reference permit under TE-025433 in such comments.

U.S. Fish and Wildlife Service, 1 Federal Drive, Fort Snelling, Minnesota 55111-4056, Telephone: 612/713-5343, Fax: 612/713-5292.

Field Supervisor, U.S. Fish and Wildlife Service, East Lansing Field Office, 2651 Coolidge Rd., Suite 101, East Lansing, Michigan 48823-6316, Telephone: 517/351-6274.

FOR FURTHER INFORMATION CONTACT: Pete Fasbender, Regional HCP Coordinator, U.S. Fish and Wildlife Service, Fort Snelling, Minnesota, telephone 612/713-5343.

SUPPLEMENTARY INFORMATION: Under Section 9 of the Act and applicable federal regulations, the “taking” of a species listed as endangered or threatened is prohibited. However, the Service, under limited circumstances, may issue permits to “take” listed species, provided such take is incidental to, and not the purpose of, an otherwise lawful activity. Regulations governing permits for endangered species are promulgated in 50 CFR 17.22 Regulations governing permits for threatened species are promulgated in 50 CFR 17.32.

Background

Piping plovers are sensitive to human disturbance and the effects of human activity throughout the Great Lakes and Atlantic Coast breeding range lead to its listing as an endangered species in 1985. Human activity remains the primary threat to the species survival in the Great Lakes region. The proposed residential development consists of 13 single family residences located within the forested portion of a 91 acre tract at the north end of Kehl Road in Leelanau Township, Leelanau County, Michigan (SW1/4SE1/4, SE1/4SW1/4 Section 14, T32N R11W). Of the total 91 acre parcel proposed for development, a maximum of 3 acres may be potential piping plover habitat. The shoreline beach/dune area is an average of 85 feet wide (1999) and consists of equal portions of non-vegetated beach and vegetated low dunes with an abrupt edge along the forested area. The beach within the proposed development is not good nesting habitat and there are no records of piping plover nesting or other use on the property. Excellent nesting habitat occurs 0.5 mile west of the proposed development. Three and two pairs of piping plovers nested within Leelanau State Park in 1998 and 1999, respectively. Seven young plovers fledged in 1998, while seven hatched but disappeared prior to fledging in 1999. The Service believes the Applicant's property provides valuable foraging habitat for plovers nesting nearby. There is also potential for future plover nesting on the Applicant's property if an expanded plover population exhibits variation in breeding habitat characteristics or natural forces alter current beach characteristics.

The open dune portion of the Applicant's property contains several hundred individual Pitcher's thistle (Cirsium pitcheri), a threatened plant species. Boardwalks may be constructed through the vegetated dunes, but otherwise the project will not result in any construction on or other physical alteration of the beach portion of the property. Construction of the proposed project would result in human activity along a section of beach presently associated with undeveloped land. The HCP provides conservation or protective measures which would minimize or avoid potential negative effects to piping plovers of the proposed development. Protective measures include seasonal restriction of human use of the beach, control of domestic animals and other wild or feral predators, control of garbage, and the presence of a piping plover steward during selected periods. Unregulated trespass of the proposed development is expected to be eliminated by the presence of residence owners. No critical habitat for listed species currently occurs on the project site. However its consideration as piping plover critical habitat is expected by June 2000. The Proposed Action consists of the issuance of an incidental take permit and implementation of the HCP, which includes measures to minimize or avoid impacts of the project on the piping plover. The EA considers four alternatives to the Proposed Action. We will evaluate the permit application, the HCP, and comments submitted thereon to determine whether the application meets the requirements of section 10(a) of the Act. If the requirements are met, the Service will issue a permit to Magic Carpet Woods Association for the incidental take of the piping plover from human activity associated with residential development on the Association property. The final permit decision will be made no sooner than 30 days from the date of this notice.

Dated: April 12, 2000.
T.J. Miller,
Acting Assistant Regional Director, Ecological Services, Region 3, Fort Snelling, Minnesota.

[FR Doc. 00-9673 Filed 4-19-00; 8:45 am]

BILLING CODE 4310-55-M